COMMITTEE FOR PURCHASE FROM PEOPLE WHO ARE BLIND OR SEVERELY DISABLED

Procurement List; Proposed Additions and Deletions

AGENCY: Committee For Purchase From People Who Are Blind Or Severely Disabled.

ACTION: Proposed additions to and deletions from Procurement List.

SUMMARY: The Committee is proposing to add to the Procurement List products to be furnished by nonprofit agencies employing persons who are blind or have other severe disabilities, and to delete products and services previously furnished by such agencies.

Comments Must Be Received on or Before: November 6, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agencies listed:

Products

Americana Pen

NSN: 7520-01-529-1850—Refillable, Black Ink.

NPA: Industries for the Blind, Inc., Milwaukee, Wisconsin.

Contracting Activity: Office Supplies & Paper Products Acquisition Center, New York, NY.

Belt, V

NSN: 3030-01-375-8087—Belt, V.

NPA: East Texas Lighthouse for the Blind, Tyler, Texas.

Contracting Activity: Defense Supply Center Philadelphia, Philadelphia, Pennsylvania.

Eyeglasses

CR 39—Frames and Lenses

NSN: 6650-00-NIB-0012—Round 25 and 28 Bifocal, Plastic, Clear

NSN: 6650-00-NIB-0015—Progressives (VIP, Adaptar, Freedom, Image), Plastic, Clear

NSN: 6650-00-NIB-0009—Single Vision, Plastic, Clear

NSN: 6650-00-NIB-0013—Flat Top 7x28 Trifocal, Plastic, Clear

NSN: 6650-00-NIB-0014—Flat Top 8x35 Trifocal, Plastic, Clear

NSN: 6650-00-NIB-0018—Executive Bifocal, Plastic, Clear

NSN: 6650-00-NIB-0017—FT or round aspheric lenticular, Plastic, Clear

NSN: 6650-00-NIB-0016—SV aspheric lenticular, Plastic, Clear

NSN: 6650-00-NIB-0010—Flat Top 28, Bifocal, Plastic, Clear

NSN: 6650-00-NIB-0011—Flat Top 35, Bifocal, Plastic, Clear

CR 39—Lenses only

NSN: 6650-00-NIB-0033—Flat Top 28, Bifocal, Plastic, Clear

NSN: 6650-00-NIB-0034—Flat Top 35, Bifocal, Plastic, Clear

NSN: 6650-00-NIB-0032—Single Vision, Plastic, Clear

NSN: 6650-00-NIB-0041—Executive Bifocal, Plastic, Clear

NSN: 6650-00-NIB-0040—FT or round aspheric lenticular, Plastic, Clear

NSN: 6650-00-NIB-0039—SV aspheric lenticular, Plastic, Clear

NSN: 6650-00-NIB-0038—Progressives (VIP, Adaptar, Freedom, Image), Plastic, Clear

NSN: 6650-00-NIB-0037—Flat Top 8x35 Trifocal, Plastic, Clear

NSN: 6650-00-NIB-0036—Flat Top 7x28 Trifocal, Plastic, Clear

NSN: 6650-00-NIB-0035—Round 25 and 28 Bifocal, Plastic, Clear

Frame only

NSN: 6650-00-NIB-0069—Plastic or Metal

Glass—Frames and Lenses

NSN: 6650-00-NIB-0025—Executive Bifocal, Glass, Clear

NSN: 6650-00-NIB-0024—Progressives (VIP, Adaptar, Freedom), Glass, Clear

NSN: 6650-00-NIB-0023—Flat Top 8x35 Trifocal, Glass, Clear

NSN: 6650-00-NIB-0022—Flat Top 7x28 Trifocal, Glass, Clear

NSN: 6650-00-NIB-0021—Flat Top 35 Bifocal, Glass, Clear

NSN: 6650-00-NIB-0020—Flat Top 28 Bifocal, Glass, Clear

NSN: 6650-00-NIB-0019—Single Vision, Glass, Clear

Glass—Lenses only

NSN: 6650-00-NIB-0042—Single Vision, Glass, Clear

NSN: 6650-00-NIB-0048—Executive Bifocal, Glass, Clear

NSN: 6650-00-NIB-0047—Progressives (VIP, Adaptar, Freedom), Glass, Clear

NSN: 6650-00-NIB-0046—Flat Top 8x35 Trifocal, Glass, Clear

NSN: 6650-00-NIB-0045—Flat Top 7x28 Trifocal, Glass, Clear

NSN: 6650-00-NIB-0044—Flat Top 35 Bifocal, Glass, Clear

NSN: 6650-00-NIB-0043—Flat Top 28 Bifocal, Glass, Clear

Lens Add-ons

NSN: 6650-00-NIB-0068—Add powers over 4.0

NSN: 6650-00-NIB-0067—Hyper 3 drop SV, jultifocal (CR 39)

NSN: 6650-00-NIB-0066—Lenses, oversize eye, greater that 58, excluding progressive roll and polish edge (CR 39 and polycarbonate)

NSN: 6650-00-NIB-0065—Diopter + or − 9.0 and above

NSN: 6650-00-NIB-0064—Prism (up to 6 diopters no charge) > 6 diopters/per diopter

NSN: 6650-00-NIB-0063—High Index (CR 39)

NSN: 6650-00-NIB-0062—Slab-off (polycarbonate, CR 39: trifocal and bifocals)

Polycarbonate—Frames and Lenses

NSN: 6650-00-NIB-0031—Progressives (VIP, Adaptar, Freedom, Image), Polycarbonate

NSN: 6650-00-NIB-0030—Flat Top 8x35 Trifocal, Polycarbonate, Clear

NSN: 6650-00-NIB-0029—Flat Top 7x28 Trifocal, Polycarbonate, Clear

NSN: 6650-00-NIB-0028—Flat Top 35 Bifocal, Polycarbonate, Clear

NSN: 6650-00-NIB-0027—Flat Top 28 Bifocal, Polycarbonate, Clear

NSN: 6650-00-NIB-0026—Single Vision, Polycarbonate, Clear

Polycarbonate—Lenses only

NSN: 6650-00-NIB-0054—Progressives (VIP, Adaptar, Freedom, Image), Polycarbonate

NSN: 6650-00-NIB-0053—Flat Top 8x35 Trifocal, Polycarbonate, Clear

NSN: 6650-00-NIB-0052—Flat Top 7x28 Trifocal, Polycarbonate, Clear

NSN: 6650-00-NIB-0051—Flat Top 35 Bifocal, Polycarbonate, Clear

NSN: 6650-00-NIB-0050—Flat Top 28 Bifocal, Polycarbonate, Clear

NSN: 6650-00-NIB-0049—Single Vision, Polycarbonate, Clear

Tints and Coatings

NSN: 6650-00-NIB-0060—ultraviolet coating (CR 39)

NSN: 6650-00-NIB-0059—anti-reflective coating (CR 39 and polycarbonate)

NSN: 6650-00-NIB-0058—High Index transition (CR 39)

NSN: 6650-00-NIB-0057—Photogrey (glass only)

NSN: 6650-00-NIB-0056—Photochromatic/Transition, (POLYCARBONATE MATERIAL)

NSN: 6650-00-NIB-0061—polarized lenses (CR 39)

NSN: 6650-00-NIB-0055—Transition, Plastic, CR-39

NPA: Winston-Salem Industries for the Blind, Winston-Salem, North Carolina.

Contracting Activity: VISN 2—VA Healthcare Network Update New York, Buffalo, New York.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Scourer, Copper

NSN: M.R. 505—Scourer, Copper.

NPA: Lighthouse for the Blind of the Palm Beaches, Inc., West Palm Beach, Florida.

Contracting Activity: Defense Commissary Agency, Fort Lee, Virginia.

Scrubber, Pot & Dish and Refill

NSN: M.R. 582—Scrubber, Pot & Dish and Refill.

NPA: Lighthouse International, New York, New York.

Contracting Activity: Defense Commissary Agency (DeCA), Fort Lee, Virginia.

Services

Service Type/Location: Administrative Services, Defense Logistics Agency, DCASR Building B-95, 805 Walker Street, Marietta, Georgia.

NPA: Nobis Enterprises, Inc., Marietta, Georgia.

Contracting Activity: Department of Defense.

Service Type/Location: Furniture Rehabilitation, Metal.

NPA: New Vision Enterprises, Inc., Louisville, Kentucky.

Contracting Activity: Department of the Navy.

Service Type/Location: Janitorial/Custodial, Defense Contracting Management, District South, 805 Walker Street, Marietta, Georgia.

NPA: Nobis Enterprises, Inc., Marietta, Georgia.

Contracting Activity: Department of the Army.

Sheryl D. Kennerly,
Director, Information Management.

[FR Doc. E5-5536 Filed 10-6-05; 8:45 am]

BILLING CODE 6353-01-P